DEPARTMENT OF TRANSPORTATION

Federal Transit Administration

[Docket No. FTA-2012-0029 ]

Notice of Request To Rescind Buy America Waiver for Minivans and Minivan Chassis; Extension of Comment Period

AGENCY: Federal Transit Administration, DOT.

ACTION: Notice of extension of comment period.

SUMMARY: Chrysler Group LLC has requested that the comment period be extended for thirty (30) days, until October 4, 2012, on the Vehicle Production Group LLC's (VPG) request for the Federal Transit Administration (FTA) to rescind the Buy America non-availability waiver it issued on June 21, 2010, for minivans and minivan chassis. FTA disagrees that a 30-day extension is necessary to adequately provide comments on VPG's request. However, in order to ensure that FTA obtains a comprehensive and in-depth understanding of a potential rescission of this Buy America waiver and its effects, which necessarily involves input from all interested and affected parties, FTA is extending the comment period until September 11, 2012.

DATES: Comments must be received by September 11, 2012. Late-filed comments will be considered to the extent practicable.

ADDRESSES: You may submit comments by any of the methods identified in FTA's August 3, 2012 Federal Register notice (77 FR 46556).

FOR FURTHER INFORMATION CONTACT: Mary J. Lee, FTA Attorney-Advisor, at (202) 366-0985 or mary.j.lee@dot.gov.

SUPPLEMENTARY INFORMATION: On August 3, 2012, FTA published a notice in the Federal Register (77 FR 46556) requesting comments on whether the Federal Transit Administration (FTA) should rescind the non-availability waiver exempting minivans and minivan chassis from the Buy America final assembly requirements outlined in 49 CFR part 661 that FTA issued on June 21, 2010 (75 FR 35123). The Vehicle Production Group LLC (VPG) has asked FTA to rescind this waiver. VPG manufactures the MV-1, a minivan assembled by AM General LLC (AM General) at AM General's plan in Mishawaka, Indiana. VPG certifies that its MV-1 complies with the Buy America requirements for both domestic content and final assembly.

Chrysler Group LLC (Chrysler) has requested that FTA extend the comment period by thirty (30) days, until October 4, 2012. FTA will extend the comment period until September 11, 2012. FTA disagrees that a 30-day extension period is necessary in order for Chrysler or any other interested party to comment on VPG's request to rescind the Buy America waiver for minivans and minivan chassis. However, because of the need to obtain and understand completely the facts surrounding this request and to ensure that all interested parties comment on this significant matter, FTA is extending the comment period until September 11, 2012.

Issued on August 23, 2012.
Dana C. Nifosi,
Deputy Chief Counsel.

[FR Doc. 2012-21270 Filed 8-27-12; 8:45 am]

BILLING CODE 4910-57-P